DEPARTMENT OF HOMELAND SECURITY

U.S. Customs and Border Protection

Effective Date for Modifications of the National Customs Automation Program Tests Regarding Reconciliation, Post-Summary Corrections, and Periodic Monthly Statements

AGENCY: U.S. Customs and Border Protection, Department of Homeland Security.

ACTION: General notice.

SUMMARY: This notice announces that the effective date for the modifications to the National Customs Automation Program (NCAP) tests regarding Reconciliation, Post-Summary Corrections, and Periodic Monthly Statements will be July 8, 2017. U.S. Customs and Border Protection (CBP) announced these modifications in notices previously published in the Federal Register. The effective dates for the modifications had been delayed.

DATES: Effective July 8, 2017. The effective date for the modifications to the Reconciliation, Post-Summary Correction, and Periodic Monthly Statement NCAP tests will be July 8, 2017.

ADDRESSES: Comments concerning the reconciliation test program may be submitted any time during the test via email, with a subject line identifier reading, “Comment on Reconciliation test”, to OFO-RECONFOLDER@cbp.dhs.gov.

Comments concerning the Post-Summary Correction and Periodic Monthly Statement test programs may be submitted via email to Monica Crockett at ESARinfoinbox@dhs.gov with a subject line identifier reading, “Post-Summary Corrections and Periodic Monthly Statements.”

FOR FURTHER INFORMATION CONTACT: Reconciliation: Acenitha Kennedy, Entry Summary and Revenue Branch, Trade Policy and Programs, Office of Trade, at (202) 863-6064 or ACENITHA.KENNEDY@CBP.DHS.GOV. PSC and PMS: For policy-related questions, contact Randy Mitchell, Director, Commercial Operations, Trade Policy and Programs, Office of Trade, at Randy.Mitchell@cbp.dhs.gov. For technical questions related to ABI transmissions, contact your assigned client representative. Interested parties without an assigned client representative should contact the Client Representative Branch at (703) 650-3500.

SUPPLEMENTARY INFORMATION:

Background

I. Reconciliation Test

On December 12, 2016, U.S. Customs and Border Protection (CBP) published a notice entitled “Modification of the National Customs Automation Program Test Regarding Reconciliation and Transition of the Test from the Automated Commercial System to the Automated Commercial Environment” in the Federal Register (81 FR 89486), with an effective date of January 14, 2017. This notice announced modifications to the National Customs Automation Program (NCAP) test regarding reconciliation, and the transition of the test from the Automated Commercial System (ACS) to the Automated Commercial Environment (ACE). On January 17, 2017, CBP published a notice in the Federal Register (82 FR 4901) announcing that the effective date for the test modifications would be delayed indefinitely.

CBP has assessed stakeholder readiness for the mandatory transition of post-release capabilities in ACE, including the modifications to the reconciliation test and the transition of reconciliation filings from ACS to ACE. This notice announces that the new effective date for the modifications to the reconciliation test, as announced in the December 12, 2016 notice published in the Federal Register, and for mandatory filing of reconciliation entries in ACE will be July 8, 2017.

II. Post-Summary Correction and Periodic Monthly Statement Tests

On December 12, 2016, U.S. Customs and Border Protection (CBP) published a notice in the Federal Register (81 FR 89482) announcing plans to modify and clarify, effective January 14, 2017, the NCAP test regarding Post-Summary Correction (PSC) claims, and the NCAP test regarding Periodic Monthly Statements (PMS). Subsequently, on January 9, 2017, CBP published a second notice in the Federal Register (82 FR 2385), superseding the original notice. This notice announced CBP's plans to modify the PMS test and to modify and clarify the NCAP test regarding PSC claims to entry summaries that are filed in ACE. On January 17, 2017, CBP published a notice in the Federal Register, (82 FR 4901) announcing that the effective date for the modifications to the PSC and PMS tests would be delayed until further notice.

CBP has assessed stakeholder readiness for the mandatory transition of post-release capabilities in ACE, including the modifications to the PSC and PMS tests. This notice announces July 8, 2017 as the new effective date for the modifications to these tests. Therefore, the modifications to the PSC and PMS tests, as announced in the January 9, 2017 notice published in the Federal Register, will become effective on that date.

Dated: June 2, 2017.
Brenda B. Smith,
Executive Assistant Commissioner, Office of Trade.

[FR Doc. 2017-11896 Filed 6-7-17; 8:45 am]

BILLING CODE 9111-14-P